DEPARTMENT OF COMMERCE

National Oceanic and Atmospheric Administration

[RTID 0648-XD026]

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Mariana Archipelago Fishery Ecosystem Plan (FEP) Commonwealth of the Northern Mariana Islands Advisory Panel (AP), Hawaii Archipelago FEP AP, and the Mariana Archipelago FEP Guam AP to discuss and make recommendations on fishery management issues in the Western Pacific Region.

DATES: The meetings will be held between June 2 and June 9, 2023. For specific times and agendas, see SUPPLEMENTARY INFORMATION.

ADDRESSES: The Mariana Archipelago Fishery Ecosystem Plan (FEP) Commonwealth of the Northern Mariana Islands Advisory Panel (AP), Mariana Archipelago FEP Guam AP and the Hawaii Archipelago FEP AP meetings will be held in a hybrid format with in-person and remote participation (Webex) options available for the members and the public. In-person attendance for Mariana Archipelago CNMI AP members will be hosted at BRI Building Suite 205, Kopa Di Oru St., Garapan, Saipan, 96950. In person attendance for Hawaii Archipelago FEP AP members will be hosted at the Council office, 1164 Bishop Street, Suite 1400, Honolulu, HI 96813. In-person attendance for Mariana Archipelago FEP Guam AP members will be hosted at Cliff Pointe, 304 W O'Brien Drive, Hagatña, GU 96910. Instructions for connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Contact Kitty M. Simonds, Executive Director, Western Pacific Fishery Management Council; phone: (808) 522-8220.

SUPPLEMENTARY INFORMATION: The Mariana Archipelago FEP CNMI AP will meet on Saturday, June 3, from 10 a.m. to 1 p.m., the Hawaii Archipelago AP will meet on Friday, June 9, from 9 a.m. to 4 p.m., and the Mariana Archipelago FEP Guam AP will meet on Thursday, June 8, 2023, from 1 p.m. to 4 p.m. All times listed are local island times.

Public Comment periods will be provided in the agendas. The order in which agenda items are addressed may change. The meetings will run as late as necessary to complete scheduled business.

Schedule and Agenda for the Mariana Archipelago FEP CNMI AP Meeting

Saturday, June 3, 2023, From 10 a.m. to 1 p.m. (Chamorro Standard Time)

1. Welcome and Introductions

2. Review of the Last AP Recommendations and Meeting

3. Commonwealth of the Northern Mariana Islands (CNMI) AP Project and Activities Update

4. Feedback From the Fleet

A. Second Quarter Fishermen Observations in the Marianas

B. CNMI Fishery Issues and Priorities

5. Council Issues

A. Options for CNMI Bottomfish Annual Catch Limits for 2024-25

B. 2022 Annual Stock Assessment and Fishery Evaluation (SAFE) Report—CNMI Module

6. Research Priorities

A. Magnuson-Stevens Act (MSA) Five-Year Research Priorities Review

B. Cooperative Research

7. Other Business

8. Public Comment

9. Discussion and Recommendations

Schedule and Agenda for the Hawaii Archipelago AP meeting

Friday, June 9, 2023, From 9 a.m. to 4 p.m. (Hawaii Standard Time)

1. Welcome and Introductions

2. Review of the Last AP Recommendations and Meeting

3. Hawaii AP Project and Activities Update (AP Plans)

4. Feedback From the Fleet

A. Second Quarter Hawaii Fishermen Observations

B. Hawaii AP Fisheries Issues and Priorities

5. Hawaii Fishery Issues and Activities

A. Hawaii Deep-set Longline Fishery Final Biological Opinions

B. False Killer Whale Take Reduction Team Meeting Report

C. 2022 Hawaii Annual SAFE Report

6. Council Fishery Issues and Activities

A. Specifying Annual Catch Limits for Main Hawaiian Island (MHI) Kona Crab 2024-26

B. MHI Kona Crab Status Determination Criteria

C. Options for Revising Uku Essential Fish Habitat

7. Research Priorities

A. MSA Five-Year Research Priorities Review

B. Cooperative Research

8. Other Business

9. Public Comment

10. Discussion and Recommendations

Schedule and Agenda for the Mariana Archipelago FEP Guam AP Meeting

Thursday, June 8, 2023, From 1 p.m. to 4 p.m. (Chamorro Standard Time)

1. Welcome and Introductions

2. Review of the Last AP Recommendations and Meeting

3. Guam AP Project and Activities Update (AP Plans)

A. Military Mitigation Plan

4. Feedback From the Fleet

A. Second Quarter Fishermen Observations in the Marianas

B. Marianas Archipelago Fishery Issues and Priorities

5. Council Issues

A. 2022 Annual SAFE Report—Guam Module

6. Research Priorities

A. MSA Five-Year Research Priorities Review

B. Cooperative Research

7. Other Business

8. Public Comment

9. Discussion and Recommendations

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 16, 2023.
Rey Israel Marquez,
Acting Deputy Director, Office of Sustainable Fisheries, National Marine Fisheries Service.

[FR Doc. 2023-10790 Filed 5-18-23; 8:45 am]

BILLING CODE 3510-22-P